DEPARTMENT OF TRANSPORTATION

Pipeline and Hazardous Materials Safety Administration

Office of Hazardous Materials Safety; Notice of Application for Exemptions

AGENCY: Pipeline and Hazardous Materials Safety Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before October 14, 2005.

ADDRESS COMMENTS TO: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC on September 7, 2005.
R. Ryan Posten,
Exemptions Program Officer, Office of Hazardous Materials Safety Exemptions & Approvals.

Application No. | Docket No. | Applicant | Regulation(s) affected | Nature of exemption thereof
NEW EXEMPTION
14232-N | PHSMA-22248 | Luxfer Gas Cylinders—Composite Cylinder Division, Riverside, CA | 49 CFR 173.302a(a), 173.304a(a), and 180.205 | To authorize the manufacture, marking, sale and use of non-DOT specification fully-wrapped carbon fiber composite cylinders with a seamless aluminum liner for shipment for certain Division 2.1 and Division 2.2 gases. (modes 1, 2, 3, 4, 5).
14233-N | PHSMA-22245 | U.S. Department of Energy (DOE), Richland, WA | 49 CFR 172.200, 172.300, 172.400, 172.600, 173.302a | To authorize the transportation in commerce of non-DOT specification sealed electron tubes containing helium, compressed which are installed in a mobile radiation portal monitor. (mode 1).
14234-N | PHSMA-22246 | Federal Industries Corporation, Plymouth, MN | 49 CFR 173.12(b)(2)(i) | To authorize the manufacture, marking, sale and use of a UN4G fiberboard box as the outer packaging for lab pack applications. (modes 1, 2, 3).
14235-N | PHSMA-22247 | Bunkers of St. Croix, Inc., Christiansted, VI | 49 CFR 180.413 | To authorize the repair of certain DOT-Specification cargo tank motor vehicles in the US Virgin Islands to be performed by a repair facility that does not hold a Valid National Board Certification of Authorization for use of the National Board “R” stamp.
14236-N | PHSMA-22388 | Sexton Can Company Inc., Decatur, AL | 49 CFR 173.304(e) | To authorize the manufacture, mark, sale and use of a DOT Specification 2Q non-refillable cylinder of up to 1 liter for use in transporting engine starting fluid. (modes 1, 2, 3, 4, 5).
14237-N | PHSMA-22387 | Advanced Technology Materials, Inc., (ATMI), Danbury, CT | 49 CFR 173.302a | To authorize the manufacture, marking, sale and use of non-DOT specification packagings for Division 2.3 materials transported by highway and cargo vessel. (modes 1, 3).
14238-N | PHSMA-22357 | DACC Ltd., Kungnam-do, South Korea | 49 CFR 173.302 | To authorize the manufacture, mark, sale, and use of non-DOT specification fully-wrapped carbon-fiber reinforced aluminum lined cylinders. (modes 1, 2, 3, 4, 5).
14239-N | PHSMA-22386 | Marlin Gas Transport, Inc., Odessa, FL | 49 CFR 180.205 | To authorize the transportation in commerce of certain compressed gases in DOT Specification 3AA, 3AAX and 3T cylinders which have been alternatively ultrasonically retested. (modes 1, 2, 3, 4, 5).

[FR Doc. 05-18270 Filed 9-13-05; 8:45 am]

BILLING CODE 4909-60-M